DEPARTMENT OF DEFENSE

Department of the Navy

Information on Surplus Land at a Military Installation Designated for Disposal: NASJRB Willow Grove, PA

AGENCY: Department of the Navy, DoD.

ACTION: Notice.

SUMMARY: This notice provides information on the surplus property at Naval Air Station Joint Reserve Base (NASJRB) Willow Grove located in Horsham Township, Montgomery County, PA.

FOR FURTHER INFORMATION CONTACT: Ms. Kimberly Kesler, Director, Base Realignment and Closure Program Management Office, 1455 Frazee Road, San Diego, CA 92108-4310, telephone: 619-532-0993 or Mr. David Drozd, Director, Base Realignment and Closure Program Management Office, Northeast, 4911 South Broad Street, Philadelphia, PA 19112-1303, telephone: 215-897-4909.

SUPPLEMENTARY INFORMATION: In 2005, NASJRB Willow Grove, PA was designated for closure under the authority of the Defense Base Closure and Realignment Act of 1990, Public Law 101-510, as amended (the Act). Pursuant to this designation, on January 23, 2006, land and facilities at this installation were declared excess to the Department of Navy (DoN) and made available to other Department of Defense (DoD) components and other Federal agencies. In 2007, that declaration was superseded by Public Law 110-28, Section 3703, of the U.S. Troop Readiness, Veterans' Care, Katrina Recovery, and Iraq Accountability Appropriations Act, as amended, which directed the DoN to transfer NASJRB Willow Grove land to the Department of the Air Force for subsequent conveyance to the Commonwealth of Pennsylvania for establishment of the Horsham Joint Interagency Installation (HJII). In November 2009, the Commonwealth of Pennsylvania informed the Secretary of Defense that the Commonwealth will not use NASJRB Willow Grove for the proposed HJII. On January 8, 2010, land and facilities at this installation were once again declared excess to the DoN and made available to other DoD components and other Federal agencies. The DoN has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at NASJRB Willow Grove, PA is published in the Federal Register.

Redevelopment Authority. The local redevelopment authority for NASJRB Willow Grove, PA is the Horsham Township Authority for NASJRB. The point of contact is Mr. Michael J. McGee, Executive Director, 1025 Horsham Road, Horsham, PA 19044, telephone 215-643-3131.

Surplus Property Description. The following is a list of the land and facilities at NASJRB Willow Grove that are surplus to the needs of the Federal Government.

A: Land. NASJRB Willow Grove, PA consists of approximately 892 acres of improved and unimproved fee simple land located within Montgomery County and the Township of Horsham.

This surplus notice does not include two parcels of land designated for federal transfer. These parcels are being retained to provide for the needs of the Federal Aviation Administration (FAA), and the Department of the Air Force. The FAA parcel consists of approximately 3 acres and includes the Airport Surveillance Radar-11. The parcel being made available to the Air Force totals approximately 26 acres, and is located in the northeastern portion of the base and lies contiguous to the Willow Grove Air Reserve Station, and includes Building Numbers 6 (Boiler House), 7 (Welding Shop), 8 (Sewage Plant Bldg.), 30 (Chlorinating House), 31 (Well House No. 1), 31A (Well No. 1), 32 (Well House No. 2), 32A (Well No. 2), 39 (Gate House—Main Gate), 65 (Training Building), 78 (Public Works Bldg.), 106 (Reservoir Water No. 1), 127 (Dispatcher Bldg.), 128 (Automotive Main Bldg./USAF), 171 (Supply Warehouse), 190 (Electrical Distribution Shed), 346 (PAANG Weapons and Release), 348 (PAANG Aircraft Maintenance Composite), 604 (Public Works Shed), 606 (Marine General Warehouse), 633 (Hazardous Waste Bldg.), 642 (Hazardous Waste Bldg.), 643 (Public Works Storage), 644 (Transportation Storage), 654 (Public Works Carpenter Shop), 658 (Equipment Maintenance Bldg.), 661 (Guard House), 662 (Guard House), and 686 (Guard Shack). These areas will be transferred on or before operational closure.

B: Buildings. The following is a summary of the buildings and other improvements located on the above-described land that will also be available when the installation closes. Property numbers are available on request.

(1) Aviation buildings (12 structures). Comments: Approximately 314,662 square feet. Includes hangars, passenger terminal, storage, etc. Approximately 781,447 square yards of aviation facilities (23 structures). Includes runway, taxiways, parking aprons, line vehicle parking, etc.

(2) Administrative/training facilities (16 structures). Comments: Approximately 208,691 square feet. Includes reserve training buildings, personnel support activity, etc.

(3) Bachelor Officers Quarters (3 structures). Comments: Approximately 100,689 square feet.

(4) Housing Quarters (6 structures). Comments: Approximately 18,623 square feet. Approximately 1,530 square feet of detached garages (4 structures).

(5) Maintenance & Production Facilities (20 structures). Comments: Approximately 190,830 square feet. Includes vehicle maintenance, fire and rescue station, operations buildings, support buildings/facilities, etc.

(6) Storage/Warehouse Facilities (35 structures). Comments: Approximately 120,633 square feet. Approximately 7,000 square yards of open storage area.

(7) Community Support Facilities (25 structures). Comments: Approximately 142,507 square feet. Includes recreation building, child care facility, swimming pool, chapel, Navy Exchange retail store, picnic shelters, pavilions, outdoor basketball court, softball diamond, auto hobby shop, Navy Lodge, etc.

(8) Miscellaneous facilities (36 structures). Comments: Approximately 29,740 square feet. Includes dispensary, enlisted dining club, dog kennels, etc.

(9) Paved areas (roads). Comments: Approximately 145,632 square yards consisting of roads and other similar pavements. Approximately 103,447 square yards consisting of other paved surface areas, including parking areas, sidewalks, etc.

(10) Utility facilities (approximately 50 structures). Comments: measuring systems vary. Includes boiler houses, pump house, storm sewer, sanitary sewer lines, electric and water lines, and substation.

Redevelopment Planning. Pursuant to section 2905(b)(7)(F) of the Act, the Horsham Township Authority for NASJRB, the Local Redevelopment Authority (LRA), will conduct a community outreach effort with respect to the surplus property and will publish, within 30 days of the date of this notice, in a newspaper of general circulation in the communities within the vicinity of NASJRB Willow Grove, PA the time period during which the LRA will receive notices of interest from State and local governments, representatives of the homeless, and other interested parties. This publication shall include the name, address and telephone number of the point of contact for the LRA who can provide information on the prescribed form and contents of the notices of interest.

Dated: September 9, 2010.
D. J. Werner,
Lieutenant Commander, Office of the Judge Advocate General, U.S. Navy, Federal Register Liaison Officer.

[FR Doc. 2010-23095 Filed 9-15-10; 8:45 am]

BILLING CODE 3810-FF-P